DEPARTMENT OF AGRICULTURE

Forest Service

Southern Arizona Resource Advisory Committee

AGENCY: Forest Service, Agriculture (USDA).

ACTION: Notice of meeting.

SUMMARY: The Southern Arizona Resource Advisory Committee (RAC) will hold a virtual meeting by phone and/or video conference. The committee is authorized under the Secure Rural Schools and Community Self-Determination Act (the Act) and operates in compliance with the Federal Advisory Committee Act (FACA). The purpose of the committee is to improve collaborative relationships and to provide advice and recommendations to the Forest Service concerning projects and funding consistent with Title II of the Act for the Maricopa, Cochise, Pima, Pinal, and Santa Cruz counties in Arizona. Secure Rural Schools program information can be found at the following website: https://www.fs.usda.gov/working-with-us/secure-rural-schools.

DATES: The meeting will be held on Tuesday, October 19, 2021 from 8:00 a.m. to 6:00 p.m. Mountain Daylight Time. If additional time is needed, a second meeting be held on Wednesday, October 20, 2021 from 8:00 a.m. Mountain Daylight Time until all business is concluded.

All RAC meetings are subject to cancellation. For status of the meeting(s) prior to attendance, please contact the person listed under For Further Information Contact.

ADDRESSES: The meeting(s) will be held virtually via Microsoft Teams: Participants may join the meeting via the following Meeting Link. All RAC meetings are subject to cancellation.

Written comments may be submitted as described under Supplementary Information. All comments, including names and addresses when provided, are placed in the record and are available for public inspection and copying. The public may inspect comments received upon request at the Supervisor's Office of Coronado National Forest, 300 West Congress Street, Tucson, Arizona 85701.

FOR FURTHER INFORMATION CONTACT: Dana Backer, RAC Coordinator, by phone at 520-419-9567 or via email at dana.backer@usda.gov.

Individuals who use telecommunication devices for the deaf/hard-of-hearing (TDD) may call the Federal Relay Service (FRS) at 1-800-877-8339, 24 hours a day, every day of the year, including holidays.

SUPPLEMENTARY INFORMATION: The purpose of the meeting(s) is to:

1. Make final evaluations of Title II proposals; and

2. Recommend Title II proposals to the Designated Federal Officer.

The meeting(s) will be open to the public. The agenda will include time for people to make oral statements of three minutes or less. Individuals wishing to make an oral statement at any of the meetings should make a request in writing by Friday, October 1, 2021 to be scheduled on the agenda for that particular meeting. Anyone who would like to bring related matters to the attention of the committee may file written statements with the committee coordinator before or after the meeting. Written comments and requests for time for oral comments must be sent to Dana Backer, RAC Coordinator, 300 West Congress Street, 6th Floor, Tucson, Arizona 85701 or by email to dana.backer@usda.gov or via facsimile to 520-388-8305.

Meeting Accommodations: If you are a person requiring reasonable accommodation, please make a request in advance for sign language interpreting, assistive listening devices, or other reasonable accommodation. For access to proceedings, please contact the person listed in the section titled For Further Information Contact. All reasonable accommodation requests are managed on a case-by-case basis.

Dated: September 20, 2021.
Cikena Reid,
USDA Committee Management Officer.

[FR Doc. 2021-20728 Filed 9-23-21; 8:45 am]

BILLING CODE 3411-15-P